DEPARTMENT OF HEALTH AND HUMAN SERVICES

Centers for Disease Control and Prevention

[60Day-25-1317; Docket No. CDC-2025-0023]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a continuing information collection, as required by the Paperwork Reduction Act of 1995. This notice invites comment on a proposed information collection project titled National Healthcare Safety Network (NHSN) Respiratory Data. This data collection is designed to standardize the data elements collected across the country regarding the impact of respiratory viruses on healthcare facilities.

DATES: CDC must receive written comments on or before August 15, 2025.

ADDRESSES: You may submit comments, identified by Docket No. CDC-2025-0023 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

National Healthcare Safety Network (NHSN) Respiratory Data (OMB Control No. 0920-1317, Exp. 1/31/2028)—Revision—National Center for Emerging and Zoonotic Infection Diseases (NCEZID), Centers for Disease Control and Prevention (CDC).

Background and Brief Description

The Division of Healthcare Quality Promotion (DHQP), National Center for Emerging and Zoonotic Infectious Diseases (NCEZID), Centers for Disease Control and Prevention (CDC) collects COVID-19 and respiratory virus data from healthcare facilities in the National Healthcare Safety Network (NHSN) under OMB Control No. 0920-1317. NHSN is the only national system that collects surveillance data on healthcare-associated infections, infection prevention process measures, healthcare personnel safety measures, such as blood and body fluid exposures and vaccination practices, and adverse events related to the transfusion of blood and blood products. NHSN existing platform allows facilities to share data immediately with local, state, and national partners for impact monitoring, decision-making, and surveillance activities. The NHSN COVID-19 modules are designed to standardize the data elements collected across the country regarding the impact of the COVID-19 and other respiratory viruses on healthcare facilities. In collecting standardized data, NHSN provides a vendor-neutral platform and a national lens into the burden hospitals are experiencing in a way that is designed to support the public health response. NHSN is a platform that exists in nearly all acute-care hospitals, nursing homes, and dialysis facilities in the U.S. and can provide a secure, sturdy infrastructure.

The NHSN data collection was previously approved in January 2025 for 3,557,181 responses and 1,731,823 annual burden hours. The proposed changes in this Revision include modifications to 10 existing data collection forms and a change in the title to more accurately reflect data that is collected. CDC requests OMB approval for an estimated annual 1,567,929 burden hours.

Estimated Annualized Burden Hours
Form No. | Form | Number of respondents | Number of responses per respondent | Average burden per response | Total burden hours
57.101 | Hospital Respiratory Data Form (Weekly) (user entry) | 1,148 | 52 | 202/60 | 20,0977
57.101 | Hospital Respiratory Data Form (Weekly) (.csv import) | 3,444 | 52 | 29/60 | 86,559
57.101 | Hospital Respiratory Data Form (Weekly) (API) | 1,786 | 52 | 15/60 | 23,218
57.102 | Hospital Respiratory Data Form (Daily) (user entry) | 492 | 365 | 58/60 | 17,3594
57.102 | Hospital Respiratory Data Form (Daily) (.csv import) | 1,476 | 365 | 29/60 | 26,0391
57.102 | Hospital Respiratory Data Form (Daily) (API) | 765 | 365 | 15/60 | 69,806
57.140 | National Healthcare Safety Network (NHSN) Registration Form | 11,500 | 1 | 5/60 | 958
57.155 | Point of Care Testing Results—Manual | 3,135 | 150 | 11/60 | 86,213
57.155 | Point of Care Testing Results—CSV | 3,135 | 150 | 11/60 | 86,213
57.216 | Optional Person Level Reporting of Weekly COVID-19 Vaccination for Long-Term Care Residents (manual) | 1,669 | 52 | 61/60 | 88,234
57.216 | Optional Person Level Reporting of Weekly COVID-19 Vaccination for Long-Term Care Residents (.csv) | 167 | 52 | 61/60 | 8,829
57.217 | Optional Person Level Reporting of Weekly COVID-19 Vaccination for Healthcare Personnel (manual) | 96 | 52 | 61/60 | 5,075
57.217 | Optional Person Level Reporting of Weekly COVID-19 Vaccination for Healthcare Personnel (.csv) | 106 | 52 | 61/60 | 5,604
57.218 | Weekly Respiratory Pathogen and Vaccination Summary for Residents of Long-Term Care Facilities (manual) | 13,123 | 52 | 25/60 | 28,4332
57.218 | Weekly Respiratory Pathogen and Vaccination Summary for Residents of Long-Term Care Facilities (csv) | 1,526 | 52 | 20/60 | 26,451
57.219 | Healthcare Personnel COVID-19 Vaccination Cumulative Summary (manual) | 11,360 | 12 | 45/60 | 102,240
57.219 | Healthcare Personnel COVID-19 Vaccination Cumulative Summary (.csv) | 4,107 | 12 | 40/60 | 32,856
57.509 | Weekly Patient COVID-19 Vaccination Cumulative Summary for Dialysis Facilities—Manual | 107 | 12 | 45/60 | 963
57.509 | Weekly Patient COVID-19 Vaccination Cumulative Summary for Dialysis Facilities—.CSV | 2,802 | 12 | 40/60 | 22,416
57.510 | COVID-19 Module Dialysis Outpatient Facility—manual | 500 | 12 | 20/60 | 2,000
57.510 | COVID-19 Module Dialysis Outpatient Facility—.csv | 500 | 12 | 10/60 | 1,000
Total |  |  |  |  | 1,567,929

Jeffrey M. Zirger,
Lead, Information Collection Review Office, Office of Public Health Ethics and Regulations, Office of Science, Centers for Disease Control and Prevention.

[FR Doc. 2025-10863 Filed 6-13-25; 8:45 am]

BILLING CODE 4163-18-P